DEPARTMENT OF COMMERCE

International Trade Administration

[A-520-803]

Polyethylene Terephthalate Film, Sheet, and Strip From the United Arab Emirates: Final Results of Antidumping Duty Administrative Review; 2014-2015

AGENCY: Enforcement and Compliance, International Trade Administration, Commerce.

SUMMARY: On December 9, 2016, the Department of Commerce (the Department) published the preliminary results of administrative review of the antidumping duty order on polyethylene terephthalate film, sheet, and strip (PET Film) from the United Arab Emirates (UAE). This review covers one producer/exporter of subject merchandise, JBF RAK LLC (JBF). Based on our analysis of the comments and information received, we made changes to the preliminary results, which are discussed below. The final weighted-average dumping margin is listed below in the section entitled “Final Results of Review.”

DATES: Effective April 12, 2017.

FOR FURTHER INFORMATION CONTACT: Andrew Huston, AD/CVD Operations, Office VII, Enforcement and Compliance, International Trade Administration, U.S. Department of Commerce, 1401 Constitution Avenue NW., Washington, DC 20230; telephone: (202) 482-4261.

SUPPLEMENTARY INFORMATION:

Background

On December 9, 2016, the Department published the Preliminary Results.¹ On January 9, 2017, the Department received a timely-filed case brief from JBF.² No other party filed a case or rebuttal brief.

¹ See Polyethylene Terephthalate Film, Sheet, and Strip from the United Arab Emirates: Preliminary Results of Antidumping Duty Administrative Review; 2014-2015, 81 FR 89061 (December 9, 2016) (Preliminary Results).

² See “Polyethylene Terephthalate (PET) Film, Sheet and Strip from the United Arab Emirates (A-520-803); Case Brief of JBF RAK, LLC,” dated January 9, 2017.

Period of Review

The period of review is November 1, 2014, through October 31, 2015.

Scope of the Order

The products covered by the order are all gauges of raw, pre-treated, or primed polyethylene terephthalate film (PET Film), whether extruded or co-extruded. Excluded are metallized films and other finished films that have had at least one of their surfaces modified by the application of a performance-enhancing resinous or inorganic layer more than 0.00001 inches thick. Also excluded is roller transport cleaning film which has at least one of its surfaces modified by application of 0.5 micrometers of SBR latex. Tracing and drafting film is also excluded. PET Film is classifiable under subheading 3920.62.00.90 of the Harmonized Tariff Schedule of the United States (HTSUS). While HTSUS subheadings are provided for convenience and customs purposes, our written description of the scope of the order is dispositive.

Analysis of Comments Received

All issues raised in the sole case brief filed in this review are addressed in the Issues and Decision Memorandum.³ A list of the issues addressed in the Issues and Decision Memorandum is appended to this notice. The Issues and Decision Memorandum is a public document and is available electronically via Enforcement and Compliance's Antidumping and Countervailing Duty Centralized Electronic Services System (ACCESS). ACCESS is available to registered users at http://access.trade.gov, and it is available to all parties in the Central Records Unit of the main Commerce Building, room B-8024. In addition, a complete version of the Issues and Decision Memorandum is also accessible on the internet at http://enforcement.trade.gov/frn/index.html. The signed Issues and Decision Memorandum and the electronic versions of the Issues and Decision Memorandum are identical in content.

³ See Memorandum to Ronald K. Lorentzen, Acting Assistant Secretary for Enforcement and Compliance, from Gary Taverman, Associate Deputy Assistant Secretary for AD/CVD Operations, “Antidumping Duty Administrative Review of Polyethylene Terephthalate Film, Sheet, and Strip from the United Arab Emirates: Issues and Decision Memorandum for the Final Results,” (Issues and Decision Memorandum), dated concurrently with and herby adopted by this notice.

Changes Since the Preliminary Results

Based on our analysis of the comments received, we made changes to our margin calculations for JBF. A complete discussion of these changes can be found in the Issues and Decision Memorandum.

Final Results of the Administrative Review

As a result of this review, we determine that the following weighted-average dumping margin exists for the period of November 1, 2014, through October 31, 2015:

Producer or Exporter | Weighted-average dumping margin (percent ad valorem)
JBF RAK LLC | 7.91

Assessment Rates

The Department shall determine, and U.S. Customs and Border Protection (CBP) shall assess, antidumping duties on all appropriate entries of subject merchandise in accordance with the final results of this review.⁴ The Department intends to issue appropriate assessment instructions directly to CBP 15 days after the date of publication of these final results of review.

⁴ The Department applied the assessment rate calculation method adopted in Antidumping Proceedings: Calculation of the Weighted-Average Dumping Margin and Assessment Rate in Certain Antidumping Proceedings: Final Modification, 77 FR 8101 (February 14, 2012).

For assessment purposes, we calculated importer-specific, ad valorem assessment rates based on the ratio of the total amount of dumping calculated for the examined sales to the total entered value of those same sales.⁵ We will instruct CBP to assess antidumping duties on all appropriate entries covered by this review.

⁵ See 19 CFR 351.212(b)(1).

Cash Deposit Requirements

The following cash deposit requirements will be effective upon publication of the final results of this administrative review for all shipments of subject merchandise entered, or withdrawn from warehouse, for consumption on or after the publication date of these final results, as provided by section 751(a)(2)(C) of the Tariff Act of 1930, as amended (the Act): (1) For JBF, the cash deposit rate will be equal to the weighted-average dumping margin listed above in the section “Final Results of the Administrative Review;” (2) for merchandise exported by producers or exporters not covered in this review but covered in a previously completed segment of this proceeding, the cash deposit rate will continue to be the company-specific rate published in the final results for the most recent period in which that producer or exporter participated; (3) if the exporter is not a firm covered in this review or in any previous segment of this proceeding, but the producer is, then the cash deposit rate will be that established for the producer of the merchandise in these final results of review or in the final results for the most recent period in which that producer participated; and (4) if neither the exporter nor the producer is a firm covered in this review or in any previously completed segment of this proceeding, then the cash deposit rate will be 4.05 percent, the all-others rate established in the less than fair value investigation.⁶ These cash deposit requirements, when imposed, shall remain in effect until further notice.

⁶ See Polyethylene Terephthalate Film, Sheet, and Strip from Brazil, the People's Republic of China and the United Arab Emirates: Antidumping Duty Orders and Amended Final Determination of Sales at Less Than Fair Value for the United Arab Emirates, 73 FR 66595, 66596 (November 10, 2008).

Disclosure

We will disclose to interested parties the calculations performed in connection with these final results within five days of the publication of this notice, consistent with 19 CFR 351.224(b).

Notification to Importers

This notice serves as a final reminder to importers of their responsibility under 19 CFR 351.402(f)(2) to file a certificate regarding the reimbursement of antidumping duties prior to liquidation of the relevant entries during this POR. Failure to comply with this requirement could result in the Department's presumption that reimbursement of antidumping duties occurred and the subsequent assessment of doubled antidumping duties.

Administrative Protective Order

This notice is the only reminder to parties subject to the administrative protective order (APO) of their responsibility concerning the return or destruction of proprietary information disclosed under the APO in accordance with 19 CFR 351.305(a)(3), which continues to govern business proprietary information in this segment of the proceeding. Timely written notification of the return or destruction of APO materials, or conversion to judicial protective order, is hereby requested. Failure to comply with the regulations and the terms of an APO is a violation subject to sanction.

Notification to Interested Parties

We are issuing and publishing these final results and this notice in accordance with sections 751(a)(1) and 777(i)(1) of the Act and 19 CFR 351.213(h).

Dated: April 6, 2017.
Ronald K. Lorentzen,
Acting Assistant Secretary for Enforcement and Compliance.

Appendix—Issues in the Decision Memorandum

I. Summary

II. Background

III. Discussion of the Issues

Comment 1: Home Market Invoice Dates

Comment 2: Home Market Commissions

IV. Recommendation

[FR Doc. 2017-07364 Filed 4-11-17; 8:45 am]

BILLING CODE 3510-DS-P